DEPARTMENT OF THE INTERIOR

National Park Service

[2280-665]

National Register of Historic Places; Notification of Pending Nominations and Related Actions

Nominations for the following properties being considered for listing or related actions in the National Register were received by the National Park Service before January 22, 2011. Pursuant to §§ 60.13 or 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by March 17, 2011.

Before including your address, phone number, e-mail address, or other personal identifying information in your comment, you should be aware that your entire comment—including your personal identifying information—may be made publicly available at any time. While you can ask us in your comment to withhold your personal identifying information from public review, we cannot guarantee that we will be able to do so.

Paul Loether,
Chief, National Register of Historic Places/National Historic Landmarks Program.

LOUISIANA

Orleans Parish

Straight University Boarding House and Dining Hall, 1423 N Claiborne Ave, New Orleans, 11000074

Ouachita Parish

Miller—Roy Building, 1001 Desiard St, Monroe, 11000075

Sabine Parish

Pleasant Hill Battlefield Historic District, Near junction of ST HWY 175 and 177, Pelican, 11000072

SOUTH CAROLINA

Beaufort County

Sams Tabby Complex (38BU581), (Historic Resources of St. Helena Island c. 1740-c. 1935 MPS) S end of Datha Island at Mink's Pt near Jenkins Cr, Frogmore, 11000073

[FR Doc. 2011-4671 Filed 3-1-11; 8:45 am]

BILLING CODE 4312-51-P